NATIONAL AERONAUTICS AND SPACE ADMINISTRATION

[Notice (08-012)]

Aerospace Safety Advisory Panel; Meeting

AGENCY: National Aeronautics and Space Administration (NASA).

ACTION: Notice of meeting; correction.

Federal Register Citation of Previous Announcement: 73 FR 4641, Notice Number 08-009, January 25, 2008.

SUMMARY: The National Aeronautics and Space Administration published a document in the Federal Register of January 25, 2008, announcing a meeting of the Aerospace Safety Advisory Panel (ASAP). The document did not announce the meeting date.

Correction: Date of ASAP meeting is Wednesday, February 13, 2008, 1 p.m. to 3 p.m.

FOR FURTHER INFORMATION CONTACT: Ms. Kathy Dakon, Aerospace Safety Advisory Panel Executive Director, National Aeronautics and Space Administration, Washington, DC 20546, (202) 358-0732.

Dated: January 28, 2008.
P. Diane Rausch,
Advisory Committee Management Officer, National Aeronautics and Space Administration.

[FR Doc. E8-1912 Filed 1-31-08; 8:45 am]

BILLING CODE 7510-13-P